ENVIRONMENTAL PROTECTION AGENCY

40 CFR Part 271

[FRL-6926-7]

Florida: Final Authorization of State Hazardous Waste Management Program Revision

AGENCY: Environmental Protection Agency (EPA).

ACTION: Immediate final rule; extension of comment period and effective date.

SUMMARY: On September 18, 2000 (65 FR 56256), EPA published an action to grant Florida final authorization for several changes to its hazardous waste program under the Resource Conservation and Recovery Act (RCRA). One of the changes was the authorization of Florida for the February 16, 1993, Corrective Action Management Unit (CAMU) rule. With this action, EPA is extending the comment period and effective date for the authorization of Florida for the CAMU rule to provide additional information to the public.

DATES: This final authorization will become effective on March 5, 2001 unless EPA receives adverse written comment by February 1, 2001. If EPA receives such comment, it will publish a timely withdrawal of this immediate final rule in the Federal Register and inform the public that this authorization will not take effect.

ADDRESSES: Send written comments to Narindar Kumar, Chief, RCRA Programs Branch, Waste Management Division, U.S. Environmental Protection Agency, Atlanta Federal Center, 61 Forsyth Street, SW Atlanta, GA, 30303-8960; (404) 562-8440. We must receive your comments by February 1, 2001. You can view and copy Florida's application from 8 a.m. to 3:45 p.m. at the EPA Region 4 Library, The Sam Nunn Atlanta Federal Center, 61 Forsyth Street, SW, Atlanta, Georgia 30303-8960, Phone number (404) 562-8190, Kathy Piselli, Librarian.

FOR FURTHER INFORMATION CONTACT: Narindar Kumar, Chief, RCRA Programs Branch, Waste Management Division, U.S. Environmental Protection Agency, Atlanta Federal Center, 61 Forsyth Street, SW Atlanta, GA, 30303-8960; (404) 562-8440.

SUPPLEMENTARY INFORMATION: As a result of the September 18, 2000, Notice to grant final authorization to Florida (see 65 FR 56256) for the February 16, 1993, Corrective Action Management Unit (CAMU) rule, the State will be eligible for interim authorization-by-rule for the proposed amendments to the CAMU rule, published on August 22, 2000, at 65 FR 51080. Florida will also become eligible for conditional authorization if that alternative is chosen by EPA in the final CAMU amendments rule. This extension of the comment period and effective date only applies to the authorization of Florida for the CAMU rule, and not the other rules contained in the September 18, 2000, Federal Register.

Authority: This action is issued under the authority of sections 2002(a), 3006 and 7004(b) of the Solid Waste Disposal Act as amended 42 U.S.C. 6912(a), 6926, 6974(b).

Dated: December 1, 2000.
Michael V. Peyton,
Acting Regional Administrator, Region 4.

[FR Doc. 00-33425 Filed 12-29-00; 8:45 am]

BILLING CODE 6560-50-P